DEPARTMENT OF STATE

Delegation of Authority 261; Intercountry Adoption Act of 2000

AGENCY: Department of State.

ACTION: Notice.

SUMMARY: The 1993 Hague Convention on Protection of Children and Co-operation in Respect of Intercountry Adoption (the Convention) and the Intercountry Adoption Act of 2000 (the IAA) give the Secretary of State authority to serve as head of the United States Central Authority and to perform all functions related to IAA and Convention implementation. The functions of the Secretary of State under the Convention, and the IAA that may be delegated by law, are hereby delegated to the Assistant Secretary for Consular Affairs to ensure that she or he has the necessary and appropriate authority to perform those functions vested in the Secretary of State by the Convention, the IAA, or any implementing regulations.

1. General Delegation

(a) By virtue of the authority vested in me as Secretary of State and except as provided in section 1(b), I hereby delegate to the Assistant Secretary for Consular Affairs, to the extent authorized by law, all functions relating to intercountry adoptions vested in the Secretary of State or the head of agency by any act, order, determination, delegation of authority, regulation, or executive order now or hereafter issued, including the Intercountry Adoption Act of 2000, Public Law 106-279 (October 6, 2000) (hereinafter referred to as the “IAA”).

(b) There are hereby excluded from the authorities delegated under section 1(a) the functions conferred by section 403(b) of the IAA, relating to the establishment of fees for certain intercountry adoption services undertaken by the Department of State, which functions are hereby delegated to the Under Secretary for Management.

(c) Nothing in this delegation shall be construed to delegate the authority vested in the Secretary of State by section 502(b) of the IAA, relating to case-by-case waivers in individual adoption cases of the requirements of the IAA or regulations issued under the IAA, or of any other authority that by law may not be delegated.

2. Technical Provisions

(a) Notwithstanding this delegation of authority, the Secretary of State, the Deputy Secretary of State, and the Under Secretary of State for Management may exercise any function delegated to the Assistant Secretary for Consular Affairs by this delegation. The Secretary of State and the Deputy Secretary of State may exercise the functions conferred by section 403(b) of the IAA and delegated under section 1(b) to the Under Secretary for Management.

(b) As used in this delegation of authority, the term “functions” includes any duty, obligation, power, authority, responsibility, right, privilege, discretion, determination, or activity.

(c) The functions delegated by this delegation of authority may be redelegated to the extent authorized by law except that the authority of the Secretary of State under subsection 204(c) of the IAA, relating to the temporary and permanent debarment of adoption service providers, may not be redelegated.

(d) Any reference in this delegation of authority to any act, executive order, determination, delegation of authority, regulation or procedure shall be deemed to be a reference to such act, order, determination, delegation of authority, regulation, or procedure as amended from time to time.

(e) This delegation shall be published in the Federal Register and is effective upon the date of my signature.

Dated: September 16, 2003.
Colin L. Powell,
Secretary of State, Department of State.

[FR Doc. 03-24768 Filed 9-29-03; 8:45 am]

BILLING CODE 4710-06-M